NATIONAL AERONAUTICS AND SPACE ADMINISTRATION

[Notice (14-040)]

NASA Advisory Council; Science Committee; Earth Science Subcommittee; Meeting

AGENCY: National Aeronautics and Space Administration.

ACTION: Notice of meeting.

SUMMARY: In accordance with the Federal Advisory Committee Act, Public Law 92-463, as amended, the National Aeronautics and Space Administration (NASA) announces a meeting of the Earth Science Subcommittee of the NASA Advisory Council (NAC). This Subcommittee reports to the Science Committee of the NAC. The meeting will be held for the purpose of soliciting, from the scientific community and other persons, scientific and technical information relevant to program planning.

DATES: Wednesday, May 28, 2014, 8:30 a.m. to 4:30 p.m., and Thursday, May 29, 2014, 8:30 am to 3:30 pm, Local Time.

ADDRESSES: NASA Headquarters, Room 3H42 and 3J42, 300 E Street SW., Washington, DC 20546.

FOR FURTHER INFORMATION CONTACT: Ann Delo, Science Mission Directorate, NASA Headquarters, Washington, DC 20546, (202) 358-0750, fax (202) 358-2779, or ann.b.delo@nasa.gov.

SUPPLEMENTARY INFORMATION: The meeting will be open to the public up to the capacity of the room. The meeting will be available telephonically. Any interested person may call the USA toll free conference call number 800-988-9663, passcode 8015, to participate in this meeting by telephone. Please note, the conference call number and password is the same for both days of this meeting, May 28 and May 29, 2014.

The agenda for the meeting includes the following topics:

—Earth Science Division Update

—Sustained Land Imaging

—Climate Sensors

—Education and Public Outreach Policy and Approach

—NASA Activities in Support of the National Climate Assessments

—Arctic Science Coordination

—Earth Science Integration

Attendees will be requested to sign a register and to comply with NASA security requirements, including the presentation of a valid picture ID to Security before access to NASA Headquarters. Foreign nationals attending this meeting will be required to provide a copy of their passport and visa in addition to providing the following information no less than 10 working days prior to the meeting: full name; gender; date/place of birth; citizenship; visa information (number, type, expiration date); passport information (number, country, expiration date); employer/affiliation information (name of institution, address, country, telephone); title/position of attendee; and home address to Ann Delo via email at ann.b.delo@nasa.gov or by fax at (202) 358-2779.

U.S. citizens and Permanent Residents (green card holders) are requested to submit their name and affiliation 3 working days prior to the meeting to Ann Delo.

It is imperative that the meeting be held on this date to accommodate the scheduling priorities of the key participants.

Patricia D. Rausch,
Advisory Committee Management Officer, National Aeronautics and Space Administration.

[FR Doc. 2014-10659 Filed 5-8-14; 8:45 am]

BILLING CODE 7510-13-P